NATIONAL SCIENCE FOUNDATION

Notice of Permit Application Received Under the Antarctic Conservation Act of 1978

AGENCY: National Science Foundation.

ACTION: Notice of Permit Applications Received Under the Antarctic Conservation Act.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

Notice is hereby given that the National Science Foundation (NSF) has received a waste management permit application for operation of remote field camps during a skiing/climbing expedition in the Antarctic interior. The application is submitted to NSF pursuant to regulations issued under the Antarctic Conservation Act of 1978.

DATES: Interested parties are invited to submit written data, comments, or views with respect to this permit application by October 20, 2004. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene Kennedy at the above address or (703) 292-8030.

SUPPLEMENTARY INFORMATION: The National Science Foundation, as directed by the Antarctic Conservation Act of 1978 (Pub. L. 95-541), as amended by the Antarctic Science, Tourism and Conservation Act of 1996, has developed Antarctic Waste Regulations, 45 CFR Part 671, that requires all U.S. citizens and entities to obtain a permit for the use of release of a designated pollutant in Antarctica, and for the release of waste in Antarctica.

The waste permit applications received are as follows:

Applicant |
Ralph Fedor, 2337 Granite View Road, Waite Park, MN 56387 | Permit Application No. 2005 WM-003.

Activity for Which Permit Is Requested: The applicant is a member of the Peter 1st Ham Radio Expedition and makes this application for a Waste Management Permit for the use and release of designated pollutants. The applicant along with approximately 15 others will establish a temporary camp on Peter 1st Island using several Weather Haven shelters for sleeping, cooking and eating, and two small lab or work areas. The camp will be established for approximately 2.5 weeks, after which it will be removed. Propane tanks for cooking and 55 gallon drums of unleaded gas will be used to operate electric generators. These items will be secured and have tarps underneath to contain any possible spills. Daily inspections will be conducted to ensure items are secure. All human, paper, kitchen wastes will be removed from Antarctica. All items brought ashore will be returned to the ship for proper disposition.

Location: Peter I Island.

Dates: January 1, 2005 to February 28, 2005.

Nadene G. Kennedy,
Permit Officer.

[FR Doc. 04-21059 Filed 9-17-04; 8:45 am]

BILLING CODE 7555-01-M